DEPARTMENT OF THE INTERIOR

Bureau of Land Management

[CA-690-1430-ES; CA-44393]

Notice of Realty Action; Recreation and Public Purposes Act Classification; California

AGENCY: Bureau of Land Management, Interior.

ACTION: Notice of realty action.

SUMMARY: The Bureau of Land Management (BLM) has examined and found suitable for classification for lease and subsequent conveyance under the provisions of the Recreation and Public Purposes Act (R&PP), as amended (43 U.S.C. 869 et seq.), approximately 55.20 acres of public land in San Bernardino County, California. The Needles Unified School District proposes to use the land for a K-8 public school facility to include an elementary school, administrative offices, classrooms, head start program, daycare facility, a cafeteria, playgrounds, athletic fields, ancillary facilities and parking areas. The site has been designed to accommodate a high school within the proposed project boundary for future community needs.

DATES: Submit comments on or before October 4, 2007 to the Field Manager, BLM Needles Field Office, at the address below.

ADDRESSES: Bureau of Land Management, Needles Field Office, 1303 South U.S. Highway 95, Needles, California 92363.

FOR FURTHER INFORMATION CONTACT: Kathleen O'Connell, Realty Specialist, BLM Needles Field Office, (760) 326-7006.

SUPPLEMENTARY INFORMATION: The Needles Unified School District filed an R&PP application for the classification, lease, and subsequent conveyance of the following described 55.20 acres of public land, to be developed for a K-8 public school:

That portion of land north of the Colorado River Indian Reservation per retracement resurvey in the unsurveyed portions of sections 30 and 31, T. 1 N., R. 25 E., San Bernardino Meridian, as shown per U. S. Department of the Interior's Bureau of Land Management map, dated April 9, 1981, in the County of San Bernardino, State of California, described as follows:

Beginning at a point on the northwesterly reservation line of the Colorado River Indian Reservation, said point being 599.07 feet southeasterly along said reservation line, from the 1981, 12 mile marker (found brass disk), as shown per said map, said point being the beginning of a non-tangent curve concave southerly and having a radius of 340.00 feet, a radial line to said point bears north 07°32′31″east;

Thence, northwesterly along said curve through a central angle of 07°32′31″ an arc distance of 44.75 feet;

Thence west 1,743.25 feet to the beginning of a tangent curve concave northeasterly having a radius of 50.00 feet;

Thence northwesterly along said curve through a central angle of 23°33′23″ an arc distance of 20.56 feet to the beginning of a reverse curve concave southwesterly and southeasterly and having a radius of 70.00 feet, a radial line to said beginning bears south 23°33′23″ west;

Thence northwesterly and southerly along said curve through a central angle of 137°06′47″ an arc distance of 178.22 feet to the beginning of a reverse curve concave southwesterly and having a radius of 50.00 feet, a radial line to said beginning bears north 66°27′37″ east;

Thence southwesterly along said curve through a central angle of 23°33′23″ and arc distance of 20.56 feet;

Thence south 2,385.63 feet to the beginning of a tangent curve concave northeasterly and having a radius of 970.00 feet;

Thence southeasterly along said curve through a central angle of 02°15′41″ an arc distance of 38.39 feet to a point on the said northwesterly reservation line of the Colorado River Indian Reservation, a radial line to said point bears north 87°44′19″ east, said point being 1,520.10 feet northeasterly along said northwesterly line, from the 1981, 13 mile marker (found brass disk);

Thence northeasterly along said northwesterly reservation line a distance of 1,119.38 feet to the 1981, 12½ mile marker (found brass disk);

Thence continuing northeasterly along said northwesterly reservation line a distance of 2,040.81 feet to the point of beginning.

This tract as described contains approximately 55.20 acres in San Bernardino County.

Leasing and subsequent conveyance of the land to the Needles Unified School District is consistent with current Bureau planning for this area and would be in the public interest. The land is not needed for any Federal purpose. The lease would be issued for an initial term of 10 years to allow sufficient time to develop the planned facilities. The land would be conveyed after substantial development has occurred on the land. The lease and subsequent patent, if issued, will be subject to the provisions of the R&PP Act and applicable regulations of the Secretary of the Interior, and will be subject to the following terms, conditions, and reservations:

1. A right-of-way thereon for ditches or canals constructed by the authority of the United States pursuant to the Act of August 30, 1890 (43 U.S.C. 945).

2. All minerals shall be reserved to the United States, together with the right to prospect for, mine, and remove the minerals under applicable laws and regulations established by the Secretary of the Interior.

3. All valid existing rights.

4. Provisions of the R&PP Act and all applicable regulations of the Secretary of the Interior.

5. The lessee/patentee, its successors or assigns, by accepting a lease/patent, agrees to indemnify, defend, and hold the United States, its officers, agents, representatives, and employees (hereinafter “United States”) harmless from any costs, damages, claims, causes of action, penalties, fines, liabilities, and judgments of any kind or nature arising out of or in connection with the lessee's/patentee's use, occupancy, or operations on the leased/patented real property. This indemnification and hold harmless agreement includes, but is not limited to, acts or omissions of the lessee/patentee and its employees, agents, contractors, lessees, or any third-party arising out of or in connection with the lessee's/patentee's use, occupancy, or operations on the leased/patented real property which cause or give rise to, in whole or in part: (1) Violations of Federal, state, and local laws and regulations that are now, or may in future become, applicable to the real property and/or applicable to the use, occupancy, and/or operations thereon; (2) Judgments, claims, or demands of any kind assessed against the United States; (3) Costs, expenses, or damages of any kind incurred by the United States; (4) Releases or threatened releases of solid or hazardous waste(s) and/or hazardous substance(s), pollutant(s), or contaminant(s), and/or petroleum product or derivative of a petroleum product, as defined by Federal and state environmental laws, off, on, into, or under land, property, and other interests of the United States; (5) other activities by which solid or hazardous substance(s) or waste(s), pollutant(s), or contaminant(s), or petroleum product or derivative of a petroleum product as defined by Federal and state environmental laws, are generated, stored, used, or otherwise disposed of on the leased/patented real property, and any cleanup response, remedial action, or other actions related in any manner to the said solid or hazardous substance(s) or waste(s), pollutant(s), or contaminant(s), or petroleum product or derivative of a petroleum product; (6) Natural resource damages as defined by Federal and state laws. Lessee/Patentee shall stipulate that it will be solely responsible for compliance with all applicable Federal, state, and local environmental laws and regulatory provisions throughout the life of the facility, including any closure and/or post-closure requirements that may be imposed with respect to any physical plant and/or facility upon the real property under any Federal, state, or local environmental laws or regulatory provisions. In the case of a patent being issued, this covenant shall be construed as running with the patented real property and may be enforced by the United States in a court of competent jurisdiction.

6. Terms, covenants, and conditions identified through the applicable environmental analysis or that the authorized officer determines appropriate to ensure public access and the proper use and management of the land.

Upon publication of this notice in the Federal Register, the public land described above is segregated from all forms of appropriation under the public land laws, including the general mining laws and leasing under the mineral leasing laws, except for lease/conveyance under the Recreation and Public Purposes Act. Interested parties may submit comments regarding the proposed lease/conveyance or classification of the lands until October 4, 2007.

Classification Comments

Comments on the classification are restricted to the following four subjects: (1) Whether the land is physically suited for the proposal; (2) Whether the use will maximize the future use or uses of the land; (3) Whether the use is consistent with local planning and zoning; and (4) If the use is consistent with State and Federal programs.

Application Comments

Interested parties may submit comments regarding the specific use proposed in the application and plan of development, whether the BLM followed proper administrative procedures in reaching its classification decision, or any other factor not directly related to the suitability of the land for R&PP use as a K-8 public school.

All submissions from organizations or businesses will be made available for public inspection in their entirety. Individuals, before including your address, telephone number, e-mail address, or other personal identifying information in your comment, you should be aware that your entire comment—including your personal identifying information—may be made publicly available at any time. While you can ask us in your comment to withhold your personal identifying information from public review, we cannot guarantee that we will be able to do so.

In the absence of any adverse comments, the classification of the land described in this notice will become effective October 19, 2007. The land will not be available for lease/conveyance until after the classification becomes effective.

(Authority: 43 CFR 2741.5)

Dated: August 14, 2007.
Robert M. Doyel,
Chief, Branch of Lands Management (CA-930).

[FR Doc. E7-16289 Filed 8-17-07; 8:45 am]

BILLING CODE 4310-40-P